DEPARTMENT OF AGRICULTURE

Natural Resources Conservation Service

[Docket No. NRCS-2023-0022]

Proposed Revisions to the National Handbook of Conservation Practices for the Natural Resources Conservation Service

AGENCY: Natural Resources Conservation Service, U.S. Department of Agriculture.

ACTION: Notice of availability, request for comments.

SUMMARY: The Natural Resources Conservation Service (NRCS) is giving notice that it intends to issue a series of revised conservation practice standards in the National Handbook of Conservation Practices (NHCP). NRCS is also giving the public an opportunity to provide comments on the specified conservation practice standards in the NHCP.

DATES: We will consider comments that we receive by March 4, 2024.

ADDRESSES: We invite you to submit comments in response to this notice. You may submit your comments through one of the following methods below:

• Federal eRulemaking Portal: Go to http://www.regulations.gov and search for Docket ID NRCS-2023-0022. Follow the online instructions for submitting comments; or

• Mail or Hand Delivery: Mr. Bill Reck, National Environmental Engineer, Conservation Engineering Division, NRCS, USDA, 1400 Independence Avenue, South Building, Room 4636, Washington, DC 20250. In your comment, please specify the Docket ID NRCS-2023-0022.

All comments received will be made publicly available on http://www.regulations.gov.

The copies of the proposed revised standards are available through http://www.regulations.gov by accessing Docket No. NRCS-2023-0022. Alternatively, the proposed revised standards can be downloaded or printed from https://www.nrcs.usda.gov/getting-assistance/conservation-practices.

FOR FURTHER INFORMATION CONTACT: Mr. Bill Reck at (202) 317-0245, or email at bill.reck@usda.gov. Individuals who require alternative means for communication may contact the USDA TARGET Center at (202) 720-2600 (voice and text telephone (TTY)) or dial 711 for Telecommunications Relay service (both voice and text telephone users can initiate this call from any telephone).

SUPPLEMENTARY INFORMATION:

Background

NRCS plans to revise the conservation practice standards in the NHCP. This notice provides an overview of the planned changes and gives the public an opportunity to offer comments on the specific conservation practice standards and NRCS's proposed changes.

NRCS State Conservationists who choose to adopt these practices in their States will incorporate these practices into the respective electronic Field Office Technical Guide. These practices may be used in conservation systems that treat highly erodible land (HEL) or on land determined to be wetland. Section 343 of the Federal Agriculture Improvement and Reform Act of 1996 (Pub. L. 104-127) requires NRCS to make available for public review and comment all proposed revisions to conservation practice standards used to carry out HEL and wetland provisions of the law.

Revisions to the National Handbook of Conservation Practices

The amount of the proposed changes varies considerably for each of the conservation practice standards addressed in this notice. To fully understand the proposed changes, individuals are encouraged to compare these changes with each standard's current version, which can be found at: https://www.nrcs.usda.gov/resources/guides-and-instructions/conservation-practice-standards.

NRCS is requesting comments on the following conservation practice standards:

• Field Border (Code 386);

• Filter Strip (Code 393);

• Grazing Management (Code 528);

• Hedgerow Planting (Code 422);

• Mulching (Code 484);

• Seasonal Water Management for Wildlife (Code 646);

• Structure for Water Control (Code 587); and

• Wetland Restoration (Code 657).

The following are highlights of some of the proposed changes to each standard:

Field Border (Code 386): Revised the “Purpose” section to maintain consistency with the current resource concerns. Clarified the wording and formatting to increase readability of the “General Criteria” section and added text to the “Introduction in the Plans and Specifications” section.

Filter Strip (Code 393): Revised the definition to indicate the location of the filter strip. Revised the “Purpose” section to improve clarity and readability, added text to the “General Criteria” section to locate the filter strip downslope from a source area of contaminants and added a vegetation section. Added both criteria for flow lengths based on Agronomy Technical Note No. 2, and new content to specify burning frequency. Revised the “Irrigation Tailwater and Excessive Sediment in Surface Waters” section to clarify the plant stem spacing.

Grazing Management (Code 528): Changed the title to “Grazing Management” to eliminate confusion, promote a sense of adaptability, and better convey the intended purpose. Revised the “Purpose” section to add the purpose to reduce plant pest pressure and to create two new purposes from one existing purpose, one addressing soil erosion and the other addressing soil health related resource concerns. Revised the “General Criteria” section to include provisions to build resilience and resistance to climate‐related disturbances. Added text to clarify that the standard is intended to be used for managing vegetation using herbivores. Added a new statement to the “Plans and Specifications” section referring to the National Range and Pasture Manual and clarified that contingency plans need to consider if weather events may be intensified due to climate change. Revised the “References” section.

Hedgerow Planting (Code 422): Combined purposes to reduce the numbers from 10 to 5. Pollinator, terrestrial wildlife, and aquatic wildlife purposes were consolidated to a single wildlife purpose. The purposes intercepting airborne particulates, reducing chemical drift and odor movement were combined as a filtering section purpose. Screens and barriers to noise and dust were changed to a barrier section purpose which also includes living fences. Boundary delineation and contour guidelines were removed as a purpose but retained as a consideration.

Mulching (Code 484): Clarified wording and formatting to increase readability. Deleted “Maintain or increase organic matter content.” Added “non‐biodegradable” to synthetic mulches in the “General Criteria” section. Revised the “Moisture Management Additional Criteria” title to “Additional Criteria to Improve the Efficiency of Rain-fed Moisture Management, to Improve Irrigation Energy Efficiency, or to Improve the Efficient Use of Irrigation Water.” Added paragraph on materials to moderate soil temperature to the “Additional Criteria to Improve Plant Productivity and Health” section. Added the “Additional Criteria to Reduce Plant Pest Pressure” section. Revised the “Considerations” section for clarity and formatting to increase readability. Clarified and added an additional purpose in the “Plans and Specifications” section. Deleted one purpose on fire damage to mulch material and added a note that some biodegradable mulches can be disked into soil while others should be removed and composted in the “Operation and Maintenance” section. Also, added an additional reference to the “Reference” section.

Seasonal Water Management for Wildlife (Code 646): Title changed to “Seasonal Water Management for Wildlife” to articulate the intent to provide temporary habitat needs through the management of water. Updated the standard to remove development and focus on management. Changed lifespan from 5 years to 1 year to align with other management practices. Development actions will be implemented through implementation of other practices. Added the requirement to use a state approved habitat assessment.

Structure for Water Control (Code 587): Updated formatting of the standard to meet current agency requirements. Minor revisions made for clarity and readability purposes.

Wetland Restoration (Code 657): This standard was last revised in 2010. This practice will have a 15‐year span. The primary purpose of this revision was to make plain that this conservation practice standard covers restoration of the abiotic characteristics (hydrology, topography, and soils). Other conservation practice standards are used to restore the plant community. Changes to the “Purpose” section were made to adequately align with resource concerns. Made minor changes for clarity and to better describe the practice definition, purpose, criteria, and considerations. Included supporting practices, as well as a list of activities that do not fall under this standard to alleviate confusion. Removed all references to permitting requirements, as those requirements are provided by NRCS national conservation planning policy and should not be included in a technical standard.

USDA Non-Discrimination Policy

In accordance with Federal civil rights law and U.S. Department of Agriculture (USDA) civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (e.g., braille, large print, audiotape, American Sign Language, etc.) should contact the responsible agency or the USDA TARGET Center at (202) 720-2600 (voice and text telephone (TTY)) or dial 711 for Telecommunicaions Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: OAC@usda.gov.

USDA is an equal opportunity provider, employer, and lender.

Louis Aspey,
Associate Chief, Natural Resources Conservation Service.

[FR Doc. 2024-02077 Filed 2-1-24; 8:45 am]

BILLING CODE 3410-16-P